DEPARTMENT OF ENERGY

Federal Energy Regulatory Commission

Combined Notice of Filings # 1

November 17, 2010.

Take notice that the Commission received the following electric corporate filings:

Docket Numbers: EC11-18-000.

Applicants: Ameren Illinois Company.

Description: Ameren Illinois Company's Request for Approval Pursuant to Section 203 of the Federal Power Act and for Expedited Consideration and a Shortened Notice Period.

Filed Date: 11/10/2010.

Accession Number: 20101110-5141.

Comment Date: 5 p.m. Eastern Time on Wednesday, December 1, 2010.

Take notice that the Commission received the following electric rate filings:

Docket Numbers: ER00-2529-004.

Applicants: Dow Pipeline Company.

Description: Dow Pipeline Company's Amendment to Updated Market Power Analysis.

Filed Date: 11/16/2010.

Accession Number: 20101116-5110.

Comment Date: 5 p.m. Eastern Time on Tuesday, December 7, 2010.

Docket Numbers: ER10-2068-004.

Applicants: Delaware City Refining Company LLC.

Description: Notice of Non-Material Change in Status of Delaware City Refining Company LLC.

Filed Date: 11/17/2010.

Accession Number: 20101117-5132.

Comment Date: 5 p.m. Eastern Time on Wednesday, December 8, 2010.

Docket Numbers: ER10-2077-003.

Applicants: PBF Power Marketing LLC.

Description: Notice of Non-Material Change in Status of PBF Power Marketing LLC.

Filed Date: 11/17/2010.

Accession Number: 20101117-5118.

Comment Date: 5 p.m. Eastern Time on Wednesday, December 8, 2010.

Docket Numbers: ER10-2710-005.

Applicants: PJM Interconnection, L.L.C.

Description: PJM Interconnection, L.L.C. submits an errata to their RAA baseline filing to make technical corrections, to be effective 9/17/2010.

Filed Date: 11/17/2010.

Accession Number: 20101117-5054.

Comment Date: 5 p.m. Eastern Time on Wednesday, November 24, 2010.

Docket Numbers: ER10-2990-001.

Applicants: Potomac Power Resources, Inc.

Description: Potomac Power Resources, Inc. submits tariff filing per 35: Compliance Filing to Correct MBR Baseline Filing to be effective 9/27/2010.

Filed Date: 11/17/2010.

Accession Number: 20101117-5208.

Comment Date: 5 p.m. Eastern Time on Wednesday, December 8, 2010.

Docket Numbers: ER10-2992-001.

Applicants: Pepco Energy Services, Inc.

Description: Pepco Energy Services, Inc. submits tariff filing per 35: Compliance Filing to Correct MBR Baseline Filing to be effective 9/27/2010.

Filed Date: 11/17/2010.

Accession Number: 20101117-5196.

Comment Date: 5 p.m. Eastern Time on Wednesday, December 8, 2010.

Docket Numbers: ER10-2997-001.

Applicants: Atlantic City Electric Company.

Description: Atlantic City Electric Company submits tariff filing per 35: Compliance Filing to Correct MBR Baseline Filing to be effective 9/27/2010.

Filed Date: 11/17/2010.

Accession Number: 20101117-5195.

Comment Date: 5 p.m. Eastern Time on Wednesday, December 8, 2010.

Docket Numbers: ER10-3003-001.

Applicants: Bethlehem Renewable Energy, LLC.

Description: Bethlehem Renewable Energy, LLC submits tariff filing per 35: Compliance Filing to Correct MBR Baseline Filing to be effective 9/27/2010.

Filed Date: 11/17/2010.

Accession Number: 20101117-5172.

Comment Date: 5 p.m. Eastern Time on Wednesday, December 8, 2010.

Docket Numbers: ER10-3012-001.

Applicants: Conectiv Energy Supply, Inc.

Description: Conectiv Energy Supply, Inc. submits tariff filing per 35: Compliance Filing to Correct MBR Baseline Filing to be effective 9/27/2010.

Filed Date: 11/17/2010.

Accession Number: 20101117-5166.

Comment Date: 5 p.m. Eastern Time on Wednesday, December 8, 2010.

Docket Numbers: ER10-3015-001.

Applicants: Eastern Landfill Gas, LLC.

Description: Eastern Landfill Gas, LLC submits tariff filing per 35: Compliance Filing to Correct MBR Baseline Filing to be effective 9/27/2010.

Filed Date: 11/17/2010.

Accession Number: 20101117-5131.

Comment Date: 5 p.m. Eastern Time on Wednesday, December 8, 2010.

Docket Numbers: ER10-3016-001.

Applicants: Fauquier Landfill Gas, LLC.

Description: Fauquier Landfill Gas, LLC submits tariff filing per 35: Compliance Filing to Correct MBR Baseline Filing to be effective 9/27/2010.

Filed Date: 11/17/2010.

Accession Number: 20101117-5139.

Comment Date: 5 p.m. Eastern Time on Wednesday, December 8, 2010.

Docket Numbers: ER10-3030-001.

Applicants: Potomac Electric Power Company.

Description: Potomac Electric Power Company submits tariff filing per 35: Compliance Filing to Correct MBR Baseline Filing to be effective 9/27/2010.

Filed Date: 11/17/2010.

Accession Number: 20101117-5214.

Comment Date: 5 p.m. Eastern Time on Wednesday, December 8, 2010.

Docket Numbers: ER10-3149-001.

Applicants: Galt Power, Inc.

Description: Galt Power, Inc. submits tariff filing per 35: Galt Power Inc Baseline Filing to be effective 11/17/2010.

Filed Date: 11/17/2010.

Accession Number: 20101117-5046.

Comment Date: 5 p.m. Eastern Time on Wednesday, December 8, 2010.

Docket Numbers: ER10-3189-001.

Applicants: CCES LLC.

Description: CCES LLC submits tariff filing per 35: CCES LLC Baseline Filing to be effective 11/17/2010.

Filed Date: 11/17/2010.

Accession Number: 20101117-5122.

Comment Date: 5 p.m. Eastern Time on Wednesday, December 8, 2010.

Docket Numbers: ER10-3234-001.

Applicants: Energy Cooperative Association of Pennsylvania.

Description: Energy Cooperative Association of Pennsylvania submits tariff filing per 35: Energy Cooperative Association of Pennsylvania Baseline Filing to be effective 11/17/2010.

Filed Date: 11/17/2010.

Accession Number: 20101117-5086.

Comment Date: 5 p.m. Eastern Time on Wednesday, December 8, 2010.

Docket Numbers: ER11-18-002.

Applicants: Central Hudson Gas & Electric Corporation.

Description: Central Hudson Gas & Electric Corporation submits tariff filing per 35: CHG&E Rate Schedule 31—Refile to be effective 10/5/2010.

Filed Date: 11/17/2010.

Accession Number: 20101117-5187.

Comment Date: 5 p.m. Eastern Time on Wednesday, December 8, 2010.

Docket Numbers: ER11-1881-001.

Applicants: Burley Butte Wind Park, LLC.

Description: Burley Butte Wind Park, LLC submits tariff filing per 35.17(b): Burley Butte Wind Park Supplement No. 1 to Market Based Rate Application to be effective 11/5/2010.

Filed Date: 11/17/2010.

Accession Number: 20101117-5125.

Comment Date: 5 p.m. Eastern Time on Wednesday, December 8, 2010.

Docket Numbers: ER11-1882-001.

Applicants: Golden Valley Wind Park, LLC.

Description: Golden Valley Wind Park, LLC submits tariff filing per 35.17(b): Golden Valley Wind Park Supplement No. 1 to Market Based Rate Application to be effective 11/5/2010.

Filed Date: 11/17/2010.

Accession Number: 20101117-5137.

Comment Date: 5 p.m. Eastern Time on Wednesday, December 8, 2010.

Docket Numbers: ER11-1883-001.

Applicants: Milner Dam Wind Park, LLC.

Description: Milner Dam Wind Park, LLC submits tariff filing per 35.17(b): Milner Dam Wind Park Supplement No. 1 to Market Based Rate Application to be effective 11/5/2010.

Filed Date: 11/17/2010.

Accession Number: 20101117-5138.

Comment Date: 5 p.m. Eastern Time on Wednesday, December 8, 2010.

Docket Numbers: ER11-1885-001.

Applicants: Oregon Trail Wind Park, LLC.

Description: Oregon Trail Wind Park, LLC submits tariff filing per 35.17(b): Oregon Trail Wind Park Supplement No. 1 to Market Based Rate Application to be effective 11/5/2010.

Filed Date: 11/17/2010.

Accession Number: 20101117-5140.

Comment Date: 5 p.m. Eastern Time on Wednesday, December 8, 2010.

Docket Numbers: ER11-1886-001.

Applicants: Pilgrim Stage Station Wind Park, LLC.

Description: Pilgrim Stage Station Wind Park, LLC submits tariff filing per 35.17(b): Pilgrim Stage Station Wind Park Supplement No.1 to Market Based Rate Application to be effective 11/5/2010.

Filed Date: 11/17/2010.

Accession Number: 20101117-5144.

Comment Date: 5 p.m. Eastern Time on Wednesday, December 8, 2010.

Docket Numbers: ER11-1887-001.

Applicants: Thousand Springs Wind Park, LLC.

Description: Thousand Springs Wind Park, LLC submits tariff filing per 35.17(b): Thousand Springs Wind Park Supplement No. 1 to Market Based Rate Application to be effective 11/5/2010.

Filed Date: 11/17/2010.

Accession Number: 20101117-5149.

Comment Date: 5 p.m. Eastern Time on Wednesday, December 8, 2010.

Docket Numbers: ER11-1889-001.

Applicants: Tuana Gulch Wind Park, LLC.

Description: Tuana Gulch Wind Park, LLC submits tariff filing per 35.17(b): Tuana Gulch Wind Park Supplement No. 1 to Market Based Rate Application to be effective 11/5/2010.

Filed Date: 11/17/2010.

Accession Number: 20101117-5155.

Comment Date: 5 p.m. Eastern Time on Wednesday, December 8, 2010.

Docket Numbers: ER11-1890-001.

Applicants: Camp Reed Wind Park, LLC.

Description: Camp Reed Wind Park, LLC submits tariff filing per 35.17(b): Camp Reed Wind Park Supplement No. 1 to Market Based Rate Application to be effective 11/5/2010.

Filed Date: 11/17/2010.

Accession Number: 20101117-5133.

Comment Date: 5 p.m. Eastern Time on Wednesday, December 8, 2010.

Docket Numbers: ER11-1892-001.

Applicants: Payne's Ferry Wind Park, LLC.

Description: Payne's Ferry Wind Park, LLC submits tariff filing per 35.17(b): Payne's Ferry Wind Park Supplement No. 1 to Market Based Rate Application to be effective 11/5/2010.

Filed Date: 11/17/2010.

Accession Number: 20101117-5142.

Comment Date: 5 p.m. Eastern Time on Wednesday, December 8, 2010.

Docket Numbers: ER11-1893-001.

Applicants: Salmon Falls Wind Park, LLC.

Description: Salmon Falls Wind Park, LLC submits tariff filing per 35.17(b): Salmon Falls Wind Park Supplement No. 1 to Market Based Rate Application to be effective 11/5/2010.

Filed Date: 11/17/2010.

Accession Number: 20101117-5146.

Comment Date: 5 p.m. Eastern Time on Wednesday, December 8, 2010.

Docket Numbers: ER11-1894-001.

Applicants: Yahoo Creek Wind Park, LLC.

Description: Yahoo Creek Wind Park, LLC submits tariff filing per 35.17(b): Yahoo Creek Wind Park Supplement No. 1 to Market Based Rate Application to be effective 11/5/2010.

Filed Date: 11/17/2010.

Accession Number: 20101117-5160.

Comment Date: 5 p.m. Eastern Time on Wednesday, December 8, 2010.

Docket Numbers: ER11-1939-000.

Applicants: AP Gas & Electric (PA), LLC.

Description: AP Gas & Electric, LLC submits amendment to October 29th Petition etc.

Filed Date: 11/10/2010.

Accession Number: 20101110-0015.

Comment Date: 5 p.m. Eastern Time on Monday, November 29, 2010.

Docket Numbers: ER11-2089-000.

Applicants: MidAmerican Energy Company.

Description: MidAmerican Energy Company submits tariff filing per 35.13(a)(2)(iii): Rate Schedule No. 116—Initial Filing to be effective 1/1/2011.

Filed Date: 11/04/2010.

Accession Number: 20101104-5151.

Comment Date: 5 p.m. Eastern Time on Friday, November 26, 2010.

Docket Numbers: ER11-2122-000.

Applicants: Arizona Public Service Company.

Description: Arizona Public Service Company submits tariff filing per 35.12: Service Schedule No. 307 to be effective 10/15/2010.

Filed Date: 11/15/2010.

Accession Number: 20101115-5090.

Comment Date: 5 p.m. Eastern Time on Monday, December 6, 2010.

Docket Numbers: ER11-2130-000.

Applicants: Ontario Power Generation Energy Trading, Inc.

Description: Ontario Power Generation Energy Trading, Inc. submits tariff filing per 35: OPGET ASM Filing to be effective 1/15/2011.

Filed Date: 11/16/2010.

Accession Number: 20101116-5045.

Comment Date: 5 p.m. Eastern Time on Tuesday, December 7, 2010.

Docket Numbers: ER11-2131-000.

Applicants: Entergy Arkansas, Inc.

Description: Entergy Arkansas, Inc. submits tariff filing per 35.13(a)(2)(iii: MSS-3 Spindletop Compliance Filing to be effective 11/16/2010.

Filed Date: 11/16/2010.

Accession Number: 20101116-5069.

Comment Date: 5 p.m. Eastern Time on Tuesday, December 7, 2010.

Docket Numbers: ER11-2132-000.

Applicants: Entergy Gulf States Louisiana, L.L.C.

Description: Entergy Gulf States Louisiana, L.L.C. submits tariff filing per 35.13(a)(2)(iii: MSS-3 Spindletop Compliance Filing to be effective 11/16/2010.

Filed Date: 11/16/2010.

Accession Number: 20101116-5073.

Comment Date: 5 p.m. Eastern Time on Tuesday, December 7, 2010.

Docket Numbers: ER11-2133-000.

Applicants: Entergy Louisiana, LLC.

Description: Entergy Louisiana, LLC submits tariff filing per 35.13(a)(2)(iii: MSS-3 Spindletop Compliance Filing to be effective 11/16/2010.

Filed Date: 11/16/2010.

Accession Number: 20101116-5077.

Comment Date: 5 p.m. Eastern Time on Tuesday, December 7, 2010.

Docket Numbers: ER11-2134-000.

Applicants: Entergy Mississippi, Inc.

Description: Entergy Mississippi, Inc. submits tariff filing per 35.13(a)(2)(iii: MSS-3 Spindletop Compliance Filing to be effective 11/16/2010.

Filed Date: 11/16/2010.

Accession Number: 20101116-5078.

Comment Date: 5 p.m. Eastern Time on Tuesday, December 7, 2010.

Docket Numbers: ER11-2135-000.

Applicants: Entergy New Orleans, Inc.

Description: Entergy New Orleans, Inc. submits tariff filing per 35.13(a)(2)(iii: MSS-3 Spindletop Compliance Filing to be effective 11/16/2010.

Filed Date: 11/16/2010.

Accession Number: 20101116-5079.

Comment Date: 5 p.m. Eastern Time on Tuesday, December 7, 2010.

Docket Numbers: ER11-2136-000.

Applicants: Entergy Texas, Inc.

Description: Entergy Texas, Inc. submits tariff filing per 35: MSS-3 Spindletop Compliance Filing to be effective 11/16/2010.

Filed Date: 11/16/2010.

Accession Number: 20101116-5080.

Comment Date: 5 p.m. Eastern Time on Tuesday, December 7, 2010.

Docket Numbers: ER11-2137-000.

Applicants: Midwest Independent Transmission System Operator, Inc.

Description: Midwest Independent Transmission System Operator, Inc. submits tariff filing per 35: G809 Compliance to be effective 12/31/9998.

Filed Date: 11/16/2010.

Accession Number: 20101116-5106.

Comment Date: 5 p.m. Eastern Time on Tuesday, December 7, 2010.

Docket Numbers: ER11-2138-000.

Applicants: PJM Interconnection, L.L.C.

Description: PJM Interconnection, L.L.C. submits tariff filing per 35.13(a)(2)(iii: ISA No. 2699, Queue V4-068, Solar Star North Carolina II, LLC & VEPCO to be effective 10/18/2010.

Filed Date: 11/17/2010.

Accession Number: 20101117-5087.

Comment Date: 5 p.m. Eastern Time on Wednesday, December 8, 2010.

Docket Numbers: ER11-2139-000.

Applicants: California Independent System Operator Corporation

Description: California Independent System Operator Corporation submits tariff filing per 35.13(a)(2)(iii: 2010-11-17 CAISO's LGIA for Manzana Wind Project with SCE to be effective 1/10/2011.

Filed Date: 11/17/2010.

Accession Number: 20101117-5090.

Comment Date: 5 p.m. Eastern Time on Wednesday, December 8, 2010.

Docket Numbers: ER11-2140-000.

Applicants: PJM Interconnection, L.L.C.

Description: PJM Interconnection, L.L.C. submits tariff filing per 35.13(a)(2)(iii: PJM submits amendments to Schedule 12-Appendix to update RTEP to be effective 2/15/2011.

Filed Date: 11/17/2010.

Accession Number: 20101117-5141.

Comment Date: 5 p.m. Eastern Time on Wednesday, December 8, 2010.

Docket Numbers: ER11-2141-000.

Applicants: PJM Interconnection, L.L.C.

Description: PJM Interconnection, L.L.C. submits tariff filing per 35.13(a)(2)(iii: ISA 2697, Queue No. R49, Paulding Wind Farm II, LLC & Ohio Power Company to be effective 10/18/2010.

Filed Date: 11/17/2010.

Accession Number: 20101117-5198.

Comment Date: 5 p.m. Eastern Time on Wednesday, December 8, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-30059 Filed 11-29-10; 8:45 am]

BILLING CODE 6717-01-P